DEPARTMENT OF THE INTERIOR

Bureau of Land Management

[LLNV9230000 L13100000.FI0000; NVN-74793; 11-08807; TAS: 14x1109]

Notice of Proposed Reinstatement of Terminated Oil and Gas Lease; Nevada

AGENCY: Bureau of Land Management, Interior.

ACTION: Notice.

SUMMARY: Under the provisions of the Mineral Leasing Act of 1920, the Bureau of Land Management (BLM) received a petition for reinstatement from Finley Company, et al., for competitive oil and gas lease NVN-74793 for land in Nye County, Nevada. The petition was timely filed and was accompanied by all the rentals due since the lease terminated under the law.

FOR FURTHER INFORMATION CONTACT: Atanda Clark, BLM Nevada State Office, 775-861-6632, or e-mail: Atanda_Clark@blm.gov.

SUPPLEMENTARY INFORMATION: The lessees have agreed to the amended lease terms for rental and royalties at rates of $10 per acre or fraction thereof and 16⅔ percent, respectively. The lessees have paid the required $500 administrative fee for the lease and have reimbursed the Department for the cost of this Federal Register notice. The lessees have met all the requirements for reinstatement of the lease as set out in Sections 31(d) and (e) of the Mineral Leasing Act of 1920 (30 U.S.C. 188). The BLM is proposing to reinstate the lease, effective August 1, 2009, under the original terms and conditions of the lease and the increased rental and royalty rates cited above.

The BLM has not issued a valid lease affecting the lands to any other interest in the interim.

Authority: 43 CFR 3108.2-3(a).

Gary Johnson,
Deputy State Director, Minerals Management.

[FR Doc. 2010-28198 Filed 11-8-10; 8:45 am]

BILLING CODE 4310-HC-P